DEPARTMENT OF TRANSPORTATION

Federal Aviation Administration

Public Notice for Waiver of Aeronautical Land-Use Assurance

AGENCY: Federal Aviation Administration (FAA), DOT.

ACTION: Notice of intent of waiver with respect to land; O'Hare International Airport, Chicago, Illinois.

SUMMARY: The FAA is considering a proposal to change 1.07 acres of airport land from aeronautical use to non-aeronautical use and to authorize the sale of airport property located at O'Hare International Airport, Chicago, Illinois.

The property is located at the southeast corner of Berteau Avenue and George Street in Schiller Park, Illinois, and is currently vacant. There have been no federal investments in the parcel. The parcel is not needed for aeronautical purposes due to its remote location relative to the airfield. The proposed non aeronautical use of the property (to become effective after the sale to the Village of Schiller Park) is to be incorporated into a joint storm water detention/compensatory storage facility. The City of Chicago (City) will reserve an easement in the property for compensatory storage of storm water.

DATES: Comments must be received on or before October 28, 2013.

ADDRESSES: Documents are available for review by prior appointment at the FAA Airports District Office, Richard M. Kula, Chicago Metropolitan and Gary/Chicago International Airport Program Manager, 2300 E Devon Ave., Des Plaines, IL 60018 Telephone: (847) 294-7507/Fax: (847)-294-7046 and Jonathan Leach, Chicago Department of Aviation, 10510 West Zemke Road, Chicago, IL 60666 Telephone: (773) 686-3587. Written comments on the Sponsor's request must be delivered or mailed to: Richard M. Kula, Chicago Metropolitan and Gary/Chicago International Airport Program Manager, Federal Aviation Administration, Airports District Office, 2300 E Devon Ave., Des Plaines, IL 60018, Telephone Number: (847) 294-7507/FAX Number: (847)-294-7046.

FOR FURTHER INFORMATION CONTACT: Richard M. Kula, Chicago Metropolitan and Gary/Chicago International Airport Program Manager, Federal Aviation Administration, Airports District Office, 2300 E Devon Ave., Des Plaines, IL 60018, Telephone Number: (847) 294-7507/FAX Number: (847) 294-7046.

SUPPLEMENTARY INFORMATION: In accordance with section 47107(h) of Title 49, United States Code, this notice is required to be published in the Federal Register 30 days before modifying the land-use assurance that requires the property to be used for an aeronautical purpose.

The property is currently vacant and was acquired in 1959 with non-federal City of Chicago funds. The proposed use is to be incorporated into a joint storm water detention/compensatory storage facility. Compensation is $255,481 for fee simple conveyance subject to reserved storm water easement. This is established by appraisals obtained by the seller and purchaser.

The disposition of proceeds from the sale of the airport property will be in accordance with FAA's Policy and Procedures Concerning the Use of Airport Revenue, published in the Federal Register on February 16, 1999 (64 FR 7696).

This notice announces that the FAA is considering the release of the subject airport property at the O'Hare International Airport, Chicago, Illinois from all federal land covenants. Approval does not constitute a commitment by the FAA to financially assist in the disposal of the subject airport property nor a determination of eligibility for grant-in-aid funding from the FAA.

Legal description: The South 150 feet of the North 158.98 feet (except the West 20 feet thereof) of Lot 7 in the Subdivision of the West half of the Southwest quarter of Section 16, Township 40 North, Range 12 East of the Third Principal Meridian (except that part lying Northerly of Irving Park Road) situated in Cook County, Illinois.

Issued in Chicago Airport District Office, Chicago, IL, on September 19, 2013.
James G. Keefer,
Manager, Chicago Airports District Office, FAA, Great Lakes Region.

[FR Doc. 2013-23671 Filed 9-26-13; 8:45 am]

BILLING CODE 4910-13-P